OFFICE OF SPECIAL COUNSEL

[OMB Control No. 3255-0005]

Form OSC-14

AGENCY: Office of Special Counsel.

ACTION: Notice of proposed information collection activity.

SUMMARY: In accordance with the Paperwork Reduction Act of 1995, Office of Management and Budget (OMB) implementing regulations, and the Government Paperwork Elimination Act, OSC obtained approval from OMB on September 18, 2017, for a new, dynamic electronic form to be used for filing complaints and disclosures with OSC. OSC revised the previously-approved form, known as Form OSC-14, in July 2019 to reflect interim statutory changes and sought and obtained emergency OMB/OIRA processing of the new information collection. The final rule authorizing use of Form OSC-14 went into effect on August 26, 2019, and OMB approval on February 3, 2020, allows use of the form, as revised, through March 2023. This proposed information collection seeks to extend OSC's period of using the form through 2026.

DATES: Written comments should be received on or before February 7, 2023. Note, however, that OMB is required to act on the collection of information discussed in this proposed rule between 30 and 60 days after this notice's publication in the Federal Register. Therefore, comments are best assured of having full effect if received by OMB within 30 days of this notice's publication in the Federal Register.

ADDRESSES: You may submit comments online at this website:

• Federal eRulemaking Portal: http://www.regulations.gov. Follow the instructions for submitting comments;

• In writing, by mail, to: Office of Information and Regulatory Affairs, Office of Management and Budget, Attention: Desk Officer for OSC, New Executive Office Building, Room 10235, Washington, DC 20503; or by email via: oira_submission@omb.eop.gov.

Comments received may be posted to http://www.regulations.gov.

FOR FURTHER INFORMATION CONTACT: Susan K. Ullman, General Counsel, U.S. Office of Special Counsel, by telephone at (202) 804-7000, or by email at sullman@osc.gov.

SUPPLEMENTARY INFORMATION: OSC is a permanent independent federal investigative and prosecutorial agency. OSC's basic authorities come from four federal statutes: The Civil Service Reform Act, the Whistleblower Protection Act, the Hatch Act, and the Uniformed Services Employment & Reemployment Rights Act (USERRA). OSC's primary mission is to safeguard the merit system by protecting federal employees and applicants from prohibited personnel practices, especially reprisal for whistleblowing, and to serve as a safe channel for allegations of wrongdoing.

Procedural Determinations

Paperwork Reduction Act (PRA): OSC submits this proposed collection to OMB for review pursuant to the Paperwork Reduction Act, 44 U.S.C. 3501, et seq.

Title of Collection: Updated Form OSC-14: Electronic Submission of Allegations and Disclosures.

The updated electronic form is available on the OSC website at http://www.osc.gov.

Type of Information Collection Request: Approval of a collection of information from individuals who choose to file complaints or disclosures with OSC. The proposed collection is the same as the collection that was approved on February 3, 2020 and replaces three separate forms OSC previously used to collect the information.

Affected Public: Current and former Federal employees, applicants for Federal employment, state and local government employees, and their representatives, and the general public.

Respondent's Obligation: Voluntary.

Estimated Annual Number of Form OSC-14 Respondents: 6,000 (estimate based on a review of recent OSC Annual Reports and Congressional Budget Justifications, and trends).

Frequency of Use of Updated Form OSC-14: Daily.

Estimated Average Amount of Time for a Person to Respond Using Form OSC-14: For prohibited personnel practice and other prohibited activities allegations, one hour and 15 minutes; for whistleblower disclosures, one hour; and for Hatch Act allegations, 30 minutes to complete the form. OSC based these estimates on testing completed by OSC employees during the development of the collection form.

Estimated Annual Burden for Filing Form OSC-14: 6917.5 hours.

Abstract: The electronic form must be used to submit allegations of possible prohibited personnel practices or other prohibited activity for investigation and possible prosecution by OSC and is recommended for filing disclosures of covered wrongdoing for review and possible referral to heads of agencies. The form may also be used by individuals to file complaints under the Hatch Act.

Dated: December 5, 2022.
Travis Millsaps,
Deputy Special Counsel for Policy.

[FR Doc. 2022-26754 Filed 12-8-22; 8:45 am]

BILLING CODE 7405-01-P